NATIONAL INDIAN GAMING COMMISSION

Supplemental Notice of Intent to Prepare an Environmental Impact Statement for the Proposed Federated Indians of the Graton Rancheria Casino and Hotel Project, Sonoma, CA

AGENCY: National Indian Gaming Commission (NIGC).

ACTION: Supplemental Notice of Intent (SNOI).

SUMMARY: In accordance with Section 102(2)(C) of the National Environmental Policy Act (NEPA) 42 U.S.C. 4321 et seq., the NIGC, in cooperation with the Federated Indians of the Graton Rancheria (the “Graton Rancheria”), intends to gather information necessary for preparing an Environmental Impact Statement (EIS) for a proposed casino and hotel project to be located in Sonoma, California. This notice supplements the Notice of Intent (NOI) which appeared in the Federal Register on February 12, 2004 (69 FR 7022 (Feb. 12, 2004)) and advises the public that the NIGC and BIA intends to gather further information necessary to prepare an EIS for a proposed casino and hotel project to be located in Sonoma County, California. The purpose of the proposed action is to help address the socio-economic needs of the Federated Indians of Graton Rancheria. The proposed action is very similar to that proposed in the February 12, 2004, NOI, with the exception that the casino and hotel would be constructed adjacent to and on the east side of the previously proposed site. The shift of the proposed construction site is being considered to avoid environmental constraints discovered on the original site, particularly, to avoid wetlands identified on the original site. Additional details of the new proposed action and location are provided below in the Supplemental Information section. The supplemental scoping process will include notification of and opportunity for the general public and Federal, state, local, and tribal agencies to comment on the new proposed action. The purpose of scoping is to identify public and agency concerns on environmental issues, and alternatives to be considered in the EIS. All the information and comments gathered in response to the earlier NOI remain in the record, and there is no need to repeat information submitted at that time.

DATES: A public scoping meeting will be held on October 19, 2005 from 6 p.m. to 8:30 p.m., or until the last public comment is received. Written comments on the scope of the EIS should arrive by November 4, 2005.

ADDRESSES: Written comments on the scope of the EIS should be addressed to: Brad Mehaffy, NEPA Compliance Officer, National Indian Gaming Commission, 1441 L Street, NW., Suite 9100, Washington DC 20005.

Please include your name, return address, and caption: “EIS Scoping Comments, Graton Rancheria Casino and Hotel Project”, on the first page of your written comments. The agency scoping meeting will be hosted by the NIGC and the Federated Indians of the Graton Rancheria. The public scoping meeting will also be hosted by the NIGC and the Federated Indians of the Graton Rancheria. The public scoping meeting will be held at the Spreckels Performing Arts Center, Nellie W. Codding Theatre, 5409 Snyder Lane, Rohnert Park, CA 94928.

FOR FURTHER INFORMATION CONTACT: For general information on the NEPA review procedures or status of the NEPA review, contact Brad Mehaffy, NIGC NEPA Compliance Officer, 202-632-7003.

SUPPLEMENTARY INFORMATION: The proposed federal action is the NIGC's approval of a gaming management contract between the Federated Indians of Graton Rancheria and SC Sonoma Management LLC. The approval of the gaming management contract would result in the development of a resort hotel, casino, and supporting facilities. The facility will be managed by SC Sonoma Management LLC on behalf of the Federated Indians of Graton Rancheria, pursuant to the terms of a gaming management contract.

A NOI was originally published on February 12, 2004 for an EIS to analyze the approval of a management contract between the Federated Indians of Graton Rancheria and SC Sonoma Management LLC. Preparation of the EIS commenced after a 46-day scoping period, during which 768 public comments were received both in writing and orally at a scoping meeting held on March 10, 2004. As displayed in a handout at the March 2004 scoping meeting, development of a casino and hotel resort was proposed on a 363 acre site bordered by Wilfred Avenue to the north; Stony Point Road to the west; Rohnert Park Expressway, farmland, and the Laguna de Santa Rosa to the south; and a mobile home park, a business park, and farmland to the east.

During preparation of the EIS, numerous environmental constraints to development of this location were discovered, including wetlands, endangered species, and the 100-year floodplain. Therefore, in an effort to minimize environmental effects, a new project site is proposed which includes approximately 180 acres within the southern portion of the original 360-acre site along with an approximately 73-acre property located adjacent to the eastern boundary of the previously proposed site. The new property is bounded to the north by Wilfred Avenue and rural residential parcels, to the east by farmland, to the west by Langner Avenue, and to the south by Business Park Drive and light industrial development. The previously proposed sites will remain as alternatives in the EIS. The proposed action consists of approval of a gaming management contract between the Federated Indians of Graton Rancheria and SC Sonoma Management LLC. Approval of this contract would result in development of a casino and hotel resort on the new 253-acre site, assuming this alternative is selected at the conclusion of the EIS process.

Nearby land uses include agricultural uses such as livestock grazing and dairy operations, rural residential uses, industrial and commercial development, and open space. In addition to the proposed action, a reasonable range of alternatives, including a no action alternative, will be analyzed in the EIS. These alternatives are expected to include, but are not limited to: (1) A casino and hotel in the northwest corner of the original site, (2) a casino and hotel in the northeast corner of the original site, (3) a reduced intensity alternative, (4) an alternative use, (5) an additional off-site location, and (6) no action. Areas of environmental concern to be addressed in the EIS include: Land use, geology and soils, water resources, agricultural resources, biological resources, cultural resources, mineral resources, paleontological resources, traffic and transportation, noise, air quality, public health/environmental hazards, public services, and utilities, hazardous waste and materials, socioeconomics, environmental justice, and visual resources/aesthetics. The list of issues and alternatives may be expanded based on comments received during the scoping process.

The Federated Indians of Graton Rancheria is a Federally recognized Indian tribe with approximately 1082 members. It is governed by a tribal council, consisting of seven members, under a constitution that was passed by vote of the members on December 14, 2002 and approved by the Secretary of the Interior on December 23, 2002. The Federated Indians of Graton Rancheria presently has no land in trust with the U.S. Government and is eligible to acquire land for reservation purposes to be placed in trust.

The NIGC will serve as lead agency for compliance with NEPA. The Bureau of Indian Affairs, U.S. Army Corps of Engineers, and Sonoma County will serve as Cooperating Agencies.

Public Comment and Solicitation: Written comments pertaining to the proposed action will be accepted throughout the EIS planning process. However, to ensure proper consideration in preparation of the draft EIS, scoping comments should be received by November 4, 2005. The draft EIS is planned for publication and distribution in early 2006.

Individual commenters may request confidentiality. If you wish us to withhold your name and/or address from public review or from disclosure under the Freedom of Information Act, you must state this prominently at the beginning of your written comment. Such requests will be honored to the extent allowed by law. Anonymous comments will not, however, be considered. All submissions from organizations or businesses, and from individuals identifying themselves as representatives or officials of organizations or businesses, will be made available for public inspection in their entirety.

Authority: This notice is published in accordance with Sections 1501.7, 1506.6, and 1508.22 of the Council of Environmental Quality Regulations 40 CFR, Parts 1500 through 1508 implementing the procedural requirements of the NEPA of 1969, as amended 42 U.S.C. 4371 et seq., and the BIA NEPA Handbook.

Dated: September 21, 2005.
Philip N. Hogen,
Chairman.

[FR Doc. 05-19429 Filed 9-28-05; 8:45 am]

BILLING CODE 7565-01-P